FEDERAL MARITIME COMMISSION

Notice of Agreements Filed

The Commission hereby gives notice of the filing of the following agreements under the Shipping Act of 1984. Interested parties may submit comments on agreements to the Secretary, Federal Maritime Commission, Washington, DC 20573, within ten days of the date this notice appears in the Federal Register. Copies of agreements are available through the Commission's Office of Agreements (202-523-5793 or tradeanalysis@fmc.gov).

Agreement No.: 011602-010.

Title: Grand Alliance Agreement II.

Parties: Hapag-Lloyd AG; Hapag-Lloyd USA LLC; Nippon Yusen Kaisha; and Orient Overseas Container Line, Inc.; Orient Overseas Container Line Limited; and Orient Overseas Container Line (Europe) Limited.

Filing Party: Wayne R. Rohde, Esq.; Sher & Blackwell; 1850 M Street, NW.; Suite 900; Washington, D.C. 20036.

Synopsis: The amendment deletes CP Ships (UK) Limited as a party to the Agreement, changes the name of CP Ships USA LLC to Hapag-Lloyd USA LLC, and makes corresponding changes throughout the Agreement.

Agreement No.: 011660-006.

Title: Administrative Housekeeping Agreement.

Parties: The Members of The Trans-Pacific American Flag Berth Operators (TPAFBO) and the Members of The Trans-Atlantic American Flag Liner Operators (TAAFLO).

Filing Party: Howard A. Levy, Esq.; 80 Wall Street, Suite 1117; New York, NY 10005.

Synopsis: The amendment deletes the text of Appendix A, naming the individual members of TPAFBO and TAAFLO.

By order of the Federal Maritime Commission.
Dated: October 13, 2006.
Karen V. Gregory,
Assistant Secretary.

[FR Doc. E6-17363 Filed 10-17-06; 8:45 am]

BILLING CODE 6730-01-P